DEPARTMENT OF AGRICULTURE

Natural Resources Conservation Service

Notice of Request for Revision of a Currently Approved Information Collection

AGENCY: Natural Resources Conservation Service, USDA.

ACTION: Notice and request for comments.

SUMMARY: In accordance with the Paperwork Reduction Act of 1995 (Pub. L. 104-13) and the Office of Management and Budget (OMB) regulations at 5 CFR part 1320 (60 FR 44978, August 29, 1995), this notice announces the Natural Resources Conservation Service's (NRCS) intention to request a revision to a currently approved information collection, Application for Payment.

DATES: Comments on this notice must be received on or before October 1, 2001, to be assured consideration.

FOR FURTHER INFORMATION CONTACT: Contact Phyllis I. Williams, Agency OMB Clearance Officer, Natural Resources Conservation Service, U.S. Department of Agriculture, 5601 Sunnyside Avenue, Mailstop 5460, Beltsville, MD 20705-5000, telephone number (301) 504-2170. Comments may also be submitted by e-mail to: phyllis.williams2@usda.gov.

SUPPLEMENTARY INFORMATION: Title: Risk Protection Programs.

OMB Control Number: 0578-0028.

Expiration Date of Approval: December 31, 2001.

Type of Request: Revision to a currently approved information collection.

Abstract: The primary objective of the Natural Resources Conservation Service (NRCS) is to work in partnership with the American people to conserve and sustain our natural resources. The purpose of the Risk Protection Program information collection is to provide NRCS program participants a method for making application for participation (CCC-1200 and Appendix) in the Agricultural Management Assistance and Soil and Water Conservation Assistance programs. This information collection also includes an application for payment (CCC-1245) for participants to provide information regarding completion of conservation program contract activities, provide certification of work performed within the required standards, determine division of payment, ascertain the status of debt register collections, and provide the responsible NRCS official with authority to make Federal cost-share payments to the land user, or third party upon successful completion of a conservation program long-term contract.

Information collected is used by the NRCS to ensure the proper utilization of program funds. The CCC-1200 and Appendix and the CCC-1245 are the basic documents used by USDA program participants to request assistance and payment through the local USDA Service Center in return for applying one or more conservation practices in a long-term contract (FR Notice fr06jn01-40 and fr06jn01-41). NRCS will ask for 3-year OMB approval within 60 days of submitting the request.

Estimate of Burden: Public reporting burden for this collection of information is estimated to average 0.54 hours per response.

Respondents: Farms, individuals, or households, or State, local, or Tribal governments.

Estimated Number of Respondents: 5,000.

Estimated Total Annual Burden on Respondents: 2,917.

Copies of this information collection and related instructions can be obtained without charge from Phyllis I. Williams, Directives Manager, NRCS, USDA, 5601 Sunnyside Avenue, Mailstop 5460, Beltsville, Maryland 20705-5000, telephone number (301) 504-2170, e-mail: phyllis.williams2@usda.gov.

Comments are invited on: (a) Whether the proposed collection of information is necessary for the proper performance of the functions of the agency, including whether the information will have practical utility; (b) the accuracy of the agency's estimate of burden of the proposed collection of information, including the validity of the methodology and assumptions used; (c) ways to enhance the quality, utility, and clarity of the information to be collected; and (d) ways to minimize the burden of the collection of information on those who are to respond, such as through the use of appropriate automated, electronic, mechanical, or other technologic collection techniques or other forms of information technology. Comments may be sent to: Phyllis I. Williams, Directives Manager, NRCS, USDA, 5601 Sunnyside Avenue, Mailstop 5460, Beltsville, Maryland 20705-5000, telephone number (301) 504-2170. Comments may also be submitted by e-mail to: phyllis.williams2@usda.gov.

All responses to this notice will be summarized and included in the request for OMB approval.

All comments will become a matter of public record.

Signed at Washington, DC on August 3, 2001.
P. Dwight Holman,
Deputy Chief for Management.

[FR Doc. 01-19995 Filed 8-8-01; 8:45 am]

BILLING CODE 3410-16-P